DEPARTMENT OF COMMERCE

Office of the Secretary

[Docket No.: 061121305-6305-01]

Privacy Act of 1974: System of Records

AGENCY: Department of Commerce.

ACTION: Notice of Amendment of Privacy Act System of Records: COMMERCE/DEPARTMENT-18, Employees Personnel Files Not Covered by Notices of Other Agencies.

SUMMARY: In accordance with the Privacy Act of 1974, as amended, 5 U.S.C.552a(e)(4) and (11), the Department of Commerce is issuing notice of intent to amend the system of records under COMMERCE/DEPARTMENT-18, Employees Personnel Files Not Covered by Notices of Other Agencies. This amendment adds to this system those records compiled in conjunction with the Department of Commerce's Drug and Alcohol-Free Workplace Program. We invite public comment on the proposed changes in this publication.

DATES: To be considered, written comments must be submitted on or before January 10, 2007. Unless comments are received, the amendments to the system of records will become effective as proposed on the date of publication of a subsequent notice in the Federal Register.

FOR FURTHER INFORMATION CONTACT: Phyllis Alexander, Office of Human Resources Management, U.S. Department of Commerce, Washington, DC 20230, 202-482-4807.

ADDRESSES: Comments may be mailed to Phyllis Alexander, Office of Human Resources Management, Room 5001, 1401 Constitution Avenue, NW., Washington, DC 20230. Comments may be submitted electronically to the following electronic mail address: pAlexander@doc.gov.

SUPPLEMENTARY INFORMATION: This amendment adds to the referenced system those files containing records compiled in accordance with the Drug and Alcohol-Free Workplace Program under the requirements of Executive Order 12564: Public Law 100-71, dated July 11, 1987.

COMMERCE/DEPARTMENT-18

System Name: *

Security Classification: *

System Location:

Under location d., after “Human Resources Management, International Trade Administration,” delete “Room 3512,” and insert “Room 7060,”.

Under location e., after “National Institute of Standards and Technology, Administration Building,” delete “Room A-123, Gaithersburg, Maryland, 20899-3550.” and insert “100 Bureau Drive, Stop 1720, Gaithersburg, Maryland 20899-1720.”

Under location f., after “For employees of National Oceanic and Atmospheric Administration:” delete “Human Resources Management Office,” and insert “NOAA Workforce Management Office,”. After “and the following Administrative Support Centers:” delete “DOC/NOAA/Eastern Administrative Support Center, Norfolk Federal Building, 200 Granby Street, Room 815, Norfolk, Virginia 23510; DOC/NOAA/Mountain Administrative Support Center, 325 Broadway, Room GB109, Boulder, Colorado 80305-3328; DOC/NOAA/Western Administrative Support Center, Operations, 7600 Sand Point Way, NE., Seattle, Washington 98115-6349; and DOC/NOAA/Central Administrative Support Center, Federal Building, 601 E. 12th Street, Room 1737, Kansas City, Missouri 64106.” and insert “NOAA Workforce Management Office, UNSEC Client Services Division, 1305 East-West Highway, Silver Spring, MD 20910; NOAA Workforce Management Office, NOS/NMAO Client Services Division, Norfolk Federal Building, 200 Granby Street, Room 839, Norfolk, Virginia 23510; NOAA Workforce Management Office, NWS Client Services Division, Federal Building, 601 E. 12th Street, Room 1737, Kansas City, Missouri 64106; NOAA Workforce Management Office, OAR/NESDIS Client Services Division, 325 Broadway, Room GB109, Boulder, Colorado 80305-3328; and NOAA Workforce Management Office, NMFS Client Services Division, 7600 Sand Point Way, NE., Seattle, Washington 98115-6349.”

Under location g., after “For employees of U.S. Patent and Trademark Office, Office of Human Resources, U.S. Patent and Trademark Office, U.S. Department of Commerce,” delete “Suite 707, 2011 Crystal Drive, Arlington, Virginia 22202.” and insert “550 Elizabeth Lane, ETH04A85, Arlington, Virginia 22314.”

Under location h., after “For employees of Office of Inspector General, Human Resources Management Division,” delete “Room 7713,” and insert “Room 7711,”.

Categories of Individuals Covered by the System: *

Categories of Records in the System:

After “Student Loan Repayment Program (SLRP) records; Continuity of Operations Plan (COOP) records; Automated Notification System records, and Employee Emergency Call Center records.” and add “; Drug and Alcohol-Free Workplace Program records.”

Authority for maintenance of the system:

After “DAO 210-110,” add “; Executive Order 12564; Public Law 100-71, dated July 11, 1987.”

Purpose(s): *

Routine uses of records maintained in the system, including categories of users and the purposes of such uses:

After “(15) A record in this system of records may be disclosed to Senior State Department officials at U.S. Embassies, including the Ambassador, Deputy Chief of Mission, Administrative Counselor and Human Resource Officers, for matters relating to employment or security issues pertaining to Department of Commerce employees working in U.S. Embassies or facilities overseas.” add “(16) A record in this system of records may be disclosed to the U.S. Coast Guard for National Oceanic and Atmospheric Administration wage marine employees for the purpose of complying with the requirements of the Drug and Alcohol-Free Workplace Program. (17) A record in this system of records may be disclosed to the U.S. Department of Transportation for employees in transportation positions for the purpose of complying with the requirements of the Omnibus Transportation Employee Testing Act of 1991 and 49 CFR Part 40.”

Disclosure to Consumer Reporting Agencies: *

Policies and Practices for Storing, Retrieving, Accessing, Retaining, and Disposing of Records in the System: *

Storage: *

Retrievability: *

Safeguards: *

Retention and Disposal: *

System Manager(s) and Address: *

Notification Procedure:

Delete “For all other records at locations a and b, information may be obtained from Departmental Privacy Act Officer, Office of Executive Assistance Management, U.S. Department of Commerce, Washington, DC 20230;” and insert “For all other records at locations a and b, information may be obtained from Departmental Privacy Act Officer, Office of Management and Organization, U.S. Department of Commerce, Washington, DC 20230;”

Record Access Procedures: *

Contesting Record Procedures: *

Record Source Categories: *

Exemptions Claimed for the System: *

* Indicates that there are no changes to that paragraph of the notice.

Dated: December 5, 2006.
Brenda Dolan,
Department of Commerce, Freedom of Information/Privacy Act Office.

[FR Doc. E6-20975 Filed 12-8-06; 8:45 am]

BILLING CODE 3510-BS-P